NUCLEAR REGULATORY COMMISSION

Advisory Committee on Reactor Safeguards, Subcommittee on Early Site Permits; Notice of Meeting

The ACRS Subcommittee on Early Site Permits will hold a meeting on September 6, 2006, Room T-2B3, 11545 Rockville Pike, Rockville, Maryland.

The entire meeting will be open to public attendance.

The agenda for the subject meeting shall be as follows:

Wednesday, September 6, 2006—1 p.m. Until the Conclusion of Business

The Subcommittee will review and develop “Lessons-Learned” items as a result of the three (North Anna, Grand Gulf, and Clinton) early site permits reviews. The Subcommittee will hear presentations by and hold discussions with representatives of the NRC staff, Dominion Nuclear North Anna, LLC (Dominion), System Energy Resources, Inc. (SERI), Exelon Generation Company, LLC (Exelon), Southern Nuclear Operating Company, Inc. (Southern), and other interested persons regarding this matter. The Subcommittee will gather information, analyze relevant issues and facts, and formulate proposed positions and actions, as appropriate, for deliberation by the full Committee.

Members of the public desiring to provide oral statements and/or written comments should notify the Designated Federal Official, Mr. David C. Fischer (telephone 301/415-6889) five days prior to the meeting, if possible, so that appropriate arrangements can be made. Electronic recordings will be permitted.

Further information regarding this meeting can be obtained by contacting the Designated Federal Official between 7:30 a.m. and 4:15 p.m. (ET). Persons planning to attend this meeting are urged to contact the above named individual at least two working days prior to the meeting to be advised of any potential changes to the agenda.

Dated: August 7, 2006.
Antonio F. Dias,
Acting Branch Chief, ACRS/ACNW.

[FR Doc. E6-13130 Filed 8-10-06; 8:45 am]

BILLING CODE 7590-01-P